DEPARTMENT OF HEALTH AND HUMAN SERVICES

Health Resources and Service Administration

Advisory Committee on Training in Primary Care Medicine and Dentistry Notice of Meeting

In accordance with section 10(a)(2) of the Federal Advisory Committee Act (92), notice is hereby given of the following meeting:

Name: Advisory Committee on Training in Primary Care Medicine and Dentistry (ACTPCMD).

Dates and Times: February 6, 2015 (10:00 a.m.-4:00 p.m.)

Place: Webinar and Conference Call Format.

Status: The meeting will be open to the public.

Purpose: The ACTPCMD provides advice and recommendations on a broad range of issues relating to grant programs authorized by sections 222 and 749 of the Public Health Service Act, as amended by section 5103(d) and re-designated by section 5303 of the Patient Protection and Affordable Care Act of 2010.

The ACTPCMD members will discuss health literacy and patient engagement for inclusion in the 12th ACTPCMD Report. The report will be submitted to the Secretary of the Department of Health and Human Services; the Committee on Health, Education, Labor, and Pensions of the Senate; and the Committee on Energy and Commerce of the House of Representatives.

Agenda: The ACTPCMD agenda provides opportunity for members to discuss health literacy and patient engagement for inclusion in the 12th ACTPCMD Report. An official agenda will be available 2 days prior to the meeting on the HRSA Web site (http://www.hrsa.gov/advisorycommittees/bhpradvisory/actpcmd/index.html). Agenda items are subject to change as priorities dictate.

Public Comment: Requests to make oral comments or provide written comments to the ACTPCMD should be sent to Dr. Joan Weiss, Designated Federal Official, using the address and phone number below. Individuals who plan to participate on the conference call or webinar should notify Dr. Weiss at least 3 days prior to the meeting, using the address and phone number below. Members of the public will have the opportunity to provide comments. Interested parties should refer to the meeting subject as the HRSA Advisory Committee on Training in Primary Care Medicine and Dentistry.

The conference call-in number is 800-369-1867. The passcode is: 8803797. The webinar link is https://hrsa.connectsolutions.com/actpcmd/.

FOR FURTHER INFORMATION CONTACT: Anyone requesting information regarding the ACTPCMD should contact Dr. Joan Weiss, Designated Federal Official within the Bureau of Health Workforce, Health Resources and Services Administration, in one of three ways: 1) Send a request to the following address: Dr. Joan Weiss, Designated Federal Official, Bureau of Health Workforce, Health Resources and Services Administration, Parklawn Building, Room 12C-05, 5600 Fishers Lane, Rockville, Maryland 20857; 2) call (301) 443-0430; or 3) send an email to jweiss@hrsa.gov.

Jackie Painter,
Acting Director, Division of Policy and Information Coordination.

[FR Doc. 2015-00841 Filed 1-20-15; 8:45 am]

BILLING CODE 4165-15-P